DEPARTMENT OF THE TREASURY

Internal Revenue Service

26 CFR Part 1

[REG-128224-06]

RIN 1545-BF80

Section 67 Limitations on Estates or Trusts; Correction

AGENCY: Internal Revenue Service (IRS), Treasury.

ACTION: Correction to notice of proposed rulemaking.

SUMMARY: This document contains corrections to notice of proposed rulemaking that was published in the Federal Register on Friday, July 27, 2007 providing guidance on which costs incurred by estates or non-grantor trusts are subject to the 2-percent floor for miscellaneous itemized deductions under section 67(a).

FOR FURTHER INFORMATION CONTACT: Jennifer N. Keeney at (202) 622-3060.

SUPPLEMENTARY INFORMATION:

Background

The notice of proposed rulemaking (REG-128224-06) that is the subject of these corrections is under section 67 of the Internal Revenue Code.

Need for Correction

As published, the notice of proposed rulemaking (REG-128224-06) contains errors that may prove to be misleading and are in need of clarification.

Correction of Publication

Accordingly, the notice of proposed rulemaking (REG-128224-06) that was the subject of FR Doc. E7-14489 is corrected as follows:

On page 41245, column 1, in the preamble, under the paragraph heading “Drafting Information”, line 3, the language “of the Office of Associate Chief Counsel” is corrected to read “of the Associate Chief Counsel”.

LaNita Van Dyke,
Branch Chief, Publications and Regulations Branch, Legal Processing Division, Associate Chief Counsel (Procedure and Administration).

[FR Doc. E7-16615 Filed 8-22-07; 8:45 am]

BILLING CODE 4830-01-P